DEPARTMENT OF THE INTERIOR

National Park Service

[NPS-WASO-NRNHL-24652; PPWOCRADI0, PCU00RP14.R50000]

National Register of Historic Places; Notification of Pending Nominations and Related Actions

AGENCY: National Park Service, Interior.

ACTION: Notice.

SUMMARY: The National Park Service is soliciting comments on the significance of properties nominated before November 4, 2017, for listing or related actions in the National Register of Historic Places.

DATES: Comments should be submitted by December 12, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before November 4, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Los Angeles County

Drucker, Peter, House, 636 Wellesley Dr., Claremont, SG100001890

Orange County

Pomona Court and Apartments, 314-320 N. Paloma & 200-204 E. Whiting Aves., Fullerton, SG100001891

Sacramento County

Southside Park (Latinos in 20th Century California MPS), Between T, W, 6th & 8th Sts., Sacramento, MP100001892

MARYLAND

Howard County

Forest View, 1805 Marriottsville Rd., Marriottsville vicinity, SG100001894

MONTANA

Fergus County

Draft Horse Barn, Fergus County Fairgrounds, 1000 US 191, Lewistown, SG100001895

Flathead County

DESMET (Boat) (Glacier National Park MPS, AD), L. McDonald, Glacier NP, West Glacier vicinity, MP100001896

Glacier County

LITTLE CHIEF (Boat) (Glacier National Park MPS, AD), Two Medicine L., Glacier NP, East Glacier Park vicinity, MP100001897

Jefferson County

Grant-Marshall Lime Kiln Historic District, The 1,000 ft. S. of S. end of Crystal Dr., Helena vicinity, SG100001898

OHIO

Erie County

Downtown Sandusky Commercial Historic District, Roughly bounded by Shoreline Dr., Washington Row, Hancock & Decatur Sts., Sandusky, SG100001899

WEST VIRGINIA

Jefferson County

Wild Goose Farm, 2935 Shepherd Grade Rd., Shepherdstown vicinity, SG100001902

Wayne County

Fort Gay High School, 675 Court St., Fort Gay, SG100001903

A request for removal has been made for the following resource:

SOUTH DAKOTA

Pennington County

Madison, Pap, Cabin, Bounded by W. Main St., St. Joseph St. & West Blvd., Rapid City, OT08000054

A request to move has been received for the following resources:

UTAH

Salt Lake County

Hawk, William, Cabin, 458 N. 3rd West, Salt Lake City, MV78002671

Additional documentation has been received for the following resource:

KANSAS

Lincoln County

Nielsen Farm, 1125 E. Pike Dr., Denmark vicinity, AD05001513

Authority: 60.13 of 36 CFR Part 60.

Dated: November 8, 2017.
Christopher Hetzel,
Acting Chief, National Register of Historic Places/National Historic Landmarks Program.

[FR Doc. 2017-25506 Filed 11-24-17; 8:45 am]

BILLING CODE 4312-52-P